Proclamation 10686 of December 14, 2023

Bill of Rights Day, 2023

By the President of the United States of America

A Proclamation

On December 15, 1791, after years of debate and deliberation, our forebearers ratified the Bill of Rights. In doing so, they forever enshrined the fundamental rights and liberties we hold sacred as Americans and set in motion the greatest self-governance experiment in the history of the world.

The freedoms guaranteed by the Bill of Rights—the freedoms of religion, speech, press, assembly, privacy, and more—have helped define who we are as a people and served as our Nation's enduring North Star. The 17 additional Amendments that have been ratified since have opened the doors of opportunity wider to each new generation. But time and again we have been reminded that progress is not linear and freedom is never guaranteed; it requires constant vigilance.

The Supreme Court took away a constitutional right from the American people, denying women across the Nation the right to choose, a right that had been enshrined in a half-century of precedent. In recent years, more than 20 States have passed laws that make it harder to vote. A wave of anti-LGBTQI+ bills is threatening Americans' freedom to live openly and authentically. As a Nation, we have a duty to oppose these regressions and defend the values represented in our founding documents.

As President, I act on that duty every day. In the wake of the Supreme Court decision overturning Roe v. Wade, I issued three Executive Orders to protect a woman's ability to access comprehensive reproductive health care services. I continue to call on the Congress to restore the protections of Roe v. Wade in Federal law. Because the right to vote and have your vote counted is the threshold of democracy, I continue to urge the Congress to pass the Freedom to Vote Act and the John Lewis Voting Rights Advancement Act. These bills would restore and expand access to the ballot and prevent voter suppression. I was also proud to sign the Electoral Count Reform Act, helping preserve the will of the people and protect the peaceful transfer of power. My Administration has made strides in defending the rights and dignity of the LGBTQI+ community. On my first day in office, I signed a historic Executive Order charging the Federal Government with protecting LGBTQI+ people from discrimination. Last December, surrounded by dozens of couples who have fought for marriage equality in the courts for decades, I had the great honor of signing into law the landmark Respect for Marriage Act to protect the rights of same-sex and interracial couples.

It is worth giving our all for the rights and liberties that undergird our democracy, for they define the soul of our Nation. This cause should unite every one of us, regardless of political affiliation. In the face of threats posed to our institutions, we must remember that democracies do not have to die violently—they can die quietly, when people fail to stand up for the values and guarantees enshrined in our Nation's Constitution. This Bill of Rights Day, let us all recommit to safeguarding the fundamental freedoms secured in those first 10 Amendments and those that followed. In our lives and in the life of our Nation, let us keep marching toward our North Star—making real the promise of dignity, equality, and opportunity for all.

NOW, THEREFORE, I, JOSEPH R. BIDEN JR., President of the United States of America, by virtue of the authority vested in me by the Constitution and the laws of the United States, do hereby proclaim December 15, 2023, as Bill of Rights Day. I call upon the people of the United States to observe this day with appropriate ceremonies and activities.

IN WITNESS WHEREOF, I have hereunto set my hand this fourteenth day of December, in the year of our Lord two thousand twenty-three, and of the Independence of the United States of America the two hundred and forty-eighth.

[FR Doc. 2023-27968

Filed 12-18-23; 8:45 am]

Billing code 3395-F4-P